GENERAL SERVICES ADMINISTRATION

[Notice-2015-PM-01; Docket No. 2015-0002; Sequence No. 1]

Notice of Intent To Prepare a Supplemental Draft Environmental Impact Statement for the Federal Bureau of Investigation Central Records Complex in Winchester County, Virginia

AGENCY: U.S. General Services Administration (GSA).

ACTION: Notice.

SUMMARY: Pursuant to the National Environmental Policy Act (NEPA) of 1969, as implemented by the Council on Environmental Quality regulations, the GSA announces its intent to prepare a Supplement to the Final Environmental Impact Statement (EIS), from May 2007, analyzing the environmental impacts of site acquisition and development of the Federal Bureau of Investigation (FBI), Central Records Complex (CRC), in Winchester County, Virginia.

DATES: February 17, 2015.

ADDRESSES: Submit public comments by March 19, 2015. Written comments may be mailed to Courtenay Hoernemann, Project Environmental Planner, 20 N 8th Street, Philadelphia, PA 19107, or via email to frederick.va.siteacquisition@gsa.gov.

SUPPLEMENTARY INFORMATION: Background: GSA began the site selection process for an approximately 100 acre site in Frederick County, Virginia in 2006 in order to procure via lease construction a central records storage facility for the FBI. The facility, referred to as the CRC, would consolidate FBI's records currently housed within the Washington DC area, in addition to field offices and information technology centers nationwide.

The project requirements were 947,000 rentable square feet consisting of three buildings; an office building, a records storage facility, and a data center. The center would accommodate 1,300 employees and 1,225 parking spaces. Three sites were considered for site selection. As part of the site selection process, GSA prepared an Environmental Impact Statement (EIS) and Record of Decision (ROD) completed in May 2007 for the selected alternative, the Sempeles Site. GSA continued with the procurement process, however was unable to successfully award a lease due to market conditions and the specialized nature of the facility.

FBI then determined that the records storage piece of the project was the number one priority, and it was decided that the best way to move forward with meeting this mission critical function was through a federal construction funding request. The revised project requirements are now for an overall square footage of 256,425 gross square feet, to include the records storage building, support area, visitor's screening facility, service center, and guard booth; parking would be at 427 spaces.

Current Efforts: In 2014, federal funding was approved, and a notice was put out on FedBizOps for expressions of interest for sites at a minimum of 40 acres and a maximum of 108 acres. As a result of GSA's and FBI's evaluations, including environmental reconnaissance and application of site criteria, a short list of three (3) sites has been reached, one of which was in the 2007 EIS, the Sempeles Site, now referred to as Whitehall Commerce Center.

The Supplemental Draft EIS will evaluate potential direct, indirect, and cumulative impacts from construction at the three site alternatives, as well as the no action alternative. Relevant and reasonable measures that could avoid or mitigate environmental effects will also be analyzed. Additionally, GSA will undertake any consultations required by applicable laws or regulations, including the National Historic Preservation Act.

The Supplemental Draft EIS is being prepared to address changes to the proposed action that are relevant to environmental concerns, as required under NEPA (40 CFR 1502.9), and the following three sites will serve as alternatives:

Alternative 1: Arcadia Route 50 Property, 2117 Millwood Pike, Winchester VA.

Alternative 2: Blackburn Limited Partnership, Apple Valley Road, Winchester, VA.

Alternative 3: Whitehall Commerce Center, Route 669 & Route 11, Clear Brook, VA.

The Supplemental Draft EIS will incorporate by reference and build upon the analyses presented in the 2007 Final EIS, and will document the Section 106 process under the National Historic Preservation Act of 1966, as amended (36 CFR part 800).

A public scoping period and public scoping meeting for the proposed action were held in January 2006. However, in light of the amount of time that has transpired, changes to project requirements, and new site alternatives, a public comment period will commence on the date of this notice and be open for 30 days to allow the public to submit comments concerning the project.

Future notices will be published to announce the availability of the Supplemental Draft EIS and additional opportunities for public input.

No decision will be made to implement any alternative until the NEPA process is completed and a Record of Decision is signed.

Dated: February 5, 2015.
Toby Tobin,
Acting Division Director, Facilities Management & Services Programs Division, U.S. GSA, Mid-Atlantic Region.

[FR Doc. 2015-02974 Filed 2-13-15; 8:45 am]

BILLING CODE 6820-89-P